DEPARTMENT OF THE INTERIOR

Bureau of Land Management

[OR-130-1020-XU; GPO-0197]

Notice of Meeting of the Eastern Washington Resource Advisory Council

AGENCY: Bureau of Land Management, Spokane District, Interior.

ACTION: Field-trip and meeting of the Eastern Washington Resource Advisory Council; May 25, 2000, Whitman and Adams Counties, Washington.

SUMMARY: The Eastern Washington Resource Advisory Council (RAC) will hold a field-trip and meeting on May 25, 2000. The field-trip will commence at 9:00 a.m., at the Spokane District Office of the Bureau of Land Management (BLM), 1103 N. Fancher, Spokane, WA 99212-1275. The RAC will visit BLM lands along Rock Creek in Whitman and Adams Counties formerly known as the Escure ranch. The field-trip will adjourn upon conclusion of business, but no later than 4:00 p.m. Public comments will be heard from 10:00 a.m. until 10:30 a.m. at the Escure Ranch headquarters site. This field-trip is in lieu of a trip scheduled for April 20, 2000 but canceled due to weather conditions. If necessary to accommodate all wishing to make public comments, a time limit may be placed upon each speaker. Topics to be discussed include management of the Rock Creek lands. Transportation will be provided for RAC members only.

FOR FURTHER INFORMATION CONTACT: Bureau of Land Management, Spokane District Office, 1103 N. Fancher Road, Spokane, Washington, 99212-1275; or call 509-536-1200.

Dated: April 21, 2000.
Joseph K. Buesing,
District Manager.

[FR Doc. 00-10485 Filed 4-26-00; 8:45 am]

BILLING CODE 4310-33-P